DEPARTMENT OF LABOR

Office of the Secretary

Center for Faith-Based and Community Initiatives; Proposed Collection; Comment Request; Agency Information Collection Activities: Proposed Information Collection; Comment Request: Survey of PY 2002-2006 ETA Grassroots Grant Recipients

ACTION: Notice of an opportunity for public comment.

SUMMARY: The Department of Labor, as part of its continuing effort to reduce paperwork and respondent burden, conducts a pre-clearance consultation program to provide the general public and Federal agencies with an opportunity to comment on proposed collections of information in accordance with the Paperwork Reduction Act of 1995 (PRA95) [44 U.S.C. 3506 C 2)(A)]. This program helps to ensure that requested data can be provided in the desired format, reporting burden (time and financial resources) is minimized, collection instruments are clearly understood, and the impact of collection requirements on respondents can be properly assessed.

Currently, the Center for Faith-Based and Community Initiatives is soliciting comments concerning the proposed collection: Survey of PY 2002-2006 ETA Grassroots Grant Recipients. A copy of the proposed information collection request can be obtained by contacting the office listed below in the ADDRESSES section of this Notice.

DATES: Written comments must be submitted to the office listed in the addresses section below on or before October 30, 2006.

ADDRESSES: Center for Faith-Based and Community Initiatives, Office of the Secretary, U.S. Department of Labor, Room S-2235, 200 Constitution Avenue, NW., Washington, DC 20210. Phone (202) 693-6450 (this is not a toll-free number), fax (202) 693-6146, TTY/TDD (800) 877-8339, or e-mail contact-cfbci@dol.gov. Please reference OMB Control Number 1290-0NEW in the e-mail subject line.

SUPPLEMENTARY INFORMATION:

I. Background

On January 29, 2001, President George W. Bush issued Executive Order 13198, creating the Office for Faith-Based and Community Initiatives in the White House and centers for faith-based and community initiatives (CFBCI) in the Departments of Labor (DOL), Health and Human Services (HHS), Housing and Urban Development (HUD), Education (ED), and Justice (DOJ). President Bush charged the departmental centers with identifying statutory, regulatory, and bureaucratic barriers that stand in the way of effective faith-based and community organizations, and to ensure, consistent with the law, that these organizations have equal opportunity to compete for federal funding and other support.

In early 2002, the CFBCI and ETA developed and issued Solicitations for Grant Application (SGA) to engage grassroots organizations in our workforce system-building. These SGAs were designed to assist faith-based and community organizations in delivering social services and strengthening their existing partnerships with the local One-Stop Career Center system, while providing additional points of entry for customers into that system.

These 2002 grants embodied the Department's principal strategy for implementing the Executive Order: Creating new avenues through which qualified organizations could participate more fully under the Workforce Investment Act (WIA), while applying their particular strengths and assets in providing services to our customers. These solicitations also were derived from an ETA—CFBCI mutual premise that the involvement of faith-based and community organizations can both complement and supplement the efforts of local workforce investment systems in being accessible to and serving the training, job and career-support needs of many of our citizens.

Many faith-based and community organizations offer unique services and support networks that can contribute to our mutual system-building endeavors; are trusted institutions within our poorest neighborhoods; and are home to a large number of volunteers who bring not only the transformational power of personal relationships to the provision of social service, but also a sustained allegiance to the well-being and self-sufficiency of the participants they serve. Through their daily work and specific programs, these organizations strive to achieve some common purposes shared with government—reduction of welfare dependency, attainment of occupational skills, and entry and retention of all our citizens in good-paying jobs. Faith-based and community organizations benefit from having equal access to federal funds. DOL CFBCI intends to use this data to examine the impact that receiving and managing federal grants has on grassroots, faith-based and community organizations.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

Type of Review: New collection of information.

Agency: Center for Faith-Based and Community Initiatives.

Title: Survey of PY 2002-2006 ETA Grassroots Grant Recipients

OMB Number: 1290-0NEW.

Affected Public: Non-profit.

Frequency: Annually.

Number of Respondents: 183.

Number of Responses: 183.

Average Time Per Response: 5 minutes.

Estimated Burden Hours: 91.5.

Total Annualized Capital/startup costs: $0.

Total Initial Annual Costs: $0.

Comments submitted in response to this notice will be summarized and included in the agency's request for OMB approval of the information collection request. Comments will become a matter of public record.

Dated: August 25, 2006.
Jedd Medefind,
Director, Center for Faith-Based and Community Initiatives.

[FR Doc. E6-14435 Filed 8-29-06; 8:45 am]

BILLING CODE 4510-23-P